DEPARTMENT OF HOMELAND SECURITY

Coast Guard

[USCG-2007-27656]

High Frequency (HF) Radio Broadcasts of Marine Weather Forecasts and Warnings

AGENCY: Coast Guard, DHS.

ACTION: Notice; request for public comments.

SUMMARY: The Coast Guard is soliciting public comment on the need to continue providing high frequency (HF) radio broadcasts of weather forecasts and warnings. Public comment is necessary in order to assess the demand for the HF radio broadcasts of weather forecasts in each of three forms: (1) Radiofacsimile; (2) voice; and, (3) Simplex Teletype Over Radio (SITOR), also known as Narrow Band Direct Printing (NBDP). The infrastructure necessary to provide these services has exceeded its life expectancy; the equipment is no longer manufactured, repairs are difficult to accomplish, and spare parts generally are not available. Because of the very significant costs involved to continue these specific HF radio services, the Coast Guard requires information on the extent to which these services are used by the public and what alternative services are being used or are available to obtain weather forecasts and warnings.

DATES: Comments and related material must reach the Docket Management Facility on or before August 24, 2007.

ADDRESSES: You may submit comments identified by Coast Guard docket number USCG-2007-27656 to the Docket Management Facility at the U.S. Department of Transportation. To avoid duplication, please use only one of the following methods:

(1) Web Site: http://dms.dot.gov

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

FOR FURTHER INFORMATION CONTACT: If you have questions on this notice, please contact Mr. Russell S. Levin, Spectrum Management Division (CG-622), U.S. Coast Guard Headquarters, telephone: 202-475-3555, fax: 202-475-3927, or e-mail: Russell.S.Levin@uscg.mil. If you have questions on viewing or submitting material to the docket, call Renee V. Wright, Program Manager, Docket Operations, telephone 202-493-0402.

SUPPLEMENTARY INFORMATION:

Request for Comments

We encourage you to participate by submitting comments. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2007-27656) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

The Coast Guard broadcasts the National Oceanic and Atmospheric Administration's (NOAA) National Weather Service (NWS) weather forecasts and warnings using 24 high frequency (HF) radio transmitters (transmitting on frequencies between 3 and 30 MHz) located at seven Coast Guard communications stations in the United States and Guam. The range of these HF radio transmissions is dependent upon operating frequency, time of day and atmospheric conditions, and can vary from only short distances to several thousand miles. There are three types of HF radio broadcasts currently provided: (1) Voice broadcasts that transmit a synthesized voice to announce the forecasts); (2) radiofacsimile, also known as “radiofax” or “HF Fax” broadcasts, that transmit graphic weather maps and other graphic images over HF radio (maps are received using a dedicated radiofax receiver or a single sideband shortwave receiver connected to an external facsimile recorder or a personal computer equipped with a radiofax interface and application software); and, (3) Simplex Teletype Over Radio (SITOR) broadcasts also known as Narrow Band Direct Printing (NBDP).

The 24 HF transmitters employed to transmit weather forecasts and warnings are not, because of their age, providing the reliability the Coast Guard expects from its radio transmitters. These particular transmitters are no longer manufactured and replacement parts generally are not available, making it difficult, if not impossible, to repair them. If the HF weather broadcasts are to continue, the infrastructure necessary for the broadcasts must be replaced. Significant costs will be incurred to replace the requisite transmitters and associated infrastructure. Before seeking funds for this undertaking, the Coast Guard must gather evidence relating to how frequently, and under what circumstances, the maritime community uses the various types of HF radio weather broadcasts. In addition, it would be helpful to learn about current and future needs of the maritime community with regard to receiving weather forecasts and warnings over HF radio, and what alternatives are being used or might become available.

Questions: The following are questions related to Coast Guard HF radio broadcasts on which we seek your comments. It would be helpful if commenters would answer the question as specifically as possible, and then provide explanations, if any, for the responses.

(1) What is your position in the maritime community? (Please be as specific as possible, e.g., captain of 600′ oil tanker, 1st mate on 500 unit containership, owner/operator of 45′ cruising sailboat, fleet manager of a 27 vessel shipping company, yacht delivery captain, etc.)

(2) What are your primary sources for obtaining marine weather forecasts? (For example, Inmarsat-C/SafetyNet, USCG HF radio broadcasts, USCG medium frequency (MF) Radio Broadcasts, USCG very high frequency (VHF) radio broadcasts, NOAA Weather Radio, NAVTEX, shoreside Internet, radio/television, commercial service/system, etc.)

(3) Do you use Coast Guard HF radio voice broadcasts to receive marine weather forecasts? (Yes or No) If yes, how often do you use Coast Guard HF voice broadcasts and how critical are they to your safety and operation as compared to the other sources you listed in your response to Question 2?

(4) Do you use Coast Guard HF radiofax broadcasts to receive marine weather forecasts? (Yes or No) If yes, how often do you use Coast Guard HF radiofax broadcasts and how critical are they to your safety and operation as compared to the other sources you listed in your response to Question 2?

(5) Do you use Coast Guard HF radio Simplex Teletype over Radio (SITOR) (also known as Narrow Band Direct printing (NBDP)) to receive marine weather forecasts? (Yes or No) If yes, how often do you use Coast Guard SITOR radio broadcasts and how critical are they to your safety and operation as compared to the other sources you listed in your response to Question 2?

(6) What alternative source(s) for obtaining marine weather forecasts would you pursue if Coast Guard HF broadcasts were no longer available? How would you rate the alternative source(s) in terms of (a) user cost and (b) usefulness of the information as compared to the Coast Guard HF broadcast it replaces?

(7) Would the loss of Coast Guard HF marine weather broadcasts affect you? Please explain.

(8) How far seaward does your vessel primarily operate? (For example, coastal (0-25 nautical miles (nm) seaward); offshore (25-200 nm seaward); or, high seas (more than 200 nm seaward.) In what geographic area(s) do you generally operate your vessel? (For example, mid-Atlantic, New England, North Central Pacific, Hawaii, Gulf of Mexico, etc.)

As noted previously, comments regarding these questions, and any other pertinent matters brought to our attention during the comment period, will be taken into account in our future actions regarding the issues raised by these questions.

Dated: April 18, 2007.
C.S. Johnson, JR.,
Captain, U.S. Coast Guard, Acting Assistant Commandant for Command, Control, Communications, Computers and Information Technology.

[FR Doc. E7-7945 Filed 4-25-07; 8:45 am]

BILLING CODE 4910-15-P